FEDERAL COMMUNICATIONS COMMISSION

[CC Docket 98-67; DA 03-1729]

Notice of Certification of State Telecommunications Relay Service (TRS) Programs

AGENCY: Federal Communications Commission.

ACTION: Notice.

SUMMARY: The purpose of this document is to notify state Telecommunications Relay Service (TRS) programs that certification of their program has been granted through July 26, 2008. Notice is hereby given that the applications for certification of state Telecommunication Relay Services (TRS) programs of the states listed below have been granted, subject to the condition described below, pursuant to Title IV of the Americans with Disabilities Act (ADA), 47 U.S.C. 225(f)(2), and section 64.605(b) of the Commission's rules, 47 CFR 64.605(b). The Commission will provide further Public Notice of the certification of the remaining applications for certification once final review of those states' applications has been completed. On the basis of the state applications, the Commission has determined that: The TRS program of the states meet or exceed all operational, technical, and functional minimum standards contained in section 64.604 of the Commission's rules, 47 CFR 64.604; the TRS programs of the listed states make available adequate procedures and remedies for enforcing the requirements of the state program; and the TRS programs of the listed states in no way conflict with federal law.

DATES: This certification shall remain in effect for a five year period, beginning July 26, 2003, and ending July 25, 2008, pursuant to 47 CFR 64.605(c).

ADDRESSES: Federal Communications Commission, 445 12th Street, SW, Washington, DC 20554.

FOR FURTHER INFORMATION CONTACT: For further information regarding this Public Notice, contact Erica Myers, (202) 418-2429 (voice), (202) 418-0464 (TTY), or e-mail emyers@fcc.gov.

SUPPLEMENTARY INFORMATION: This is a summary of the Commission's Public Notice, CC Docket No. CC 98-67, released May 19, 2003. Copies of applications for certification are available for public inspection and copying during regular business hours at the FCC Reference Information Center, Portals II, 445 12th Street, SW, Room CY-A257, Washington, DC 20554. The applications for certification are also available on the Commission's Web site at http://www.fcc.gov/cgb/dro/trs_by_state.html. They may also be purchased from the Commission's duplicating contractor, Qualex International, Portals II, 445 12th Street, SW, Room CY-B402, Washington, DC 20554, telephone (202) 863-2893, facsimile (202) 863-2898, or via e-mail qualexint@aol.com.

To request materials in accessible formats for people with disabilities (braille, large print, electronic files, audio format), send an e-mail to fcc504@fcc.gov or call Consumer & Governmental Affairs Bureau, at (202) 418-0531 (voice), (202) 418-7365 9 (tty). This Public Notice can also be downloaded in Text and ASCII formats at: http://www.fcc.gov/cgb/dro.

Synopsis

The Commission also has determined that, where applicable, the intrastate funding mechanisms of the listed states are labeled in a manner that promotes national understanding of TRS and does not offend the public, consistent with section 64.605(d) of the Commission's rules, 47 CFR 64.605(d).

Because the Commission may adopt changes to the rules governing relay programs, including state relay programs, the certification granted herein is conditioned on a demonstration of compliance with the new rules adopted and any additional new rules that are adopted by the Commission. The Commission will provide guidance to the states on demonstrating compliance with such rule changes.

This certification, as conditioned herein, shall remain in effect for a five year period, beginning July 26, 2003, and ending July 25, 2008, pursuant to 47 CFR 64.605(c). One year prior to the expiration of this certification, July 25, 2007, the states may apply for renewal of their TRS program certification by filing documentation in accordance with the Commission's rules, pursuant to 47 CFR 64.605 (a) and (b).

First Group of States Approved for Certification

File No: TRS-46-02

Alabama Public Service Commission

State of Alabama

File No: TRS-47-02

Commission for the Deaf and Hearing Impaired

State of Arkansas

File No: TRS-32-02

California Public Utilities Commission

State of California

File No: TRS-04-02

Commission of the Deaf and Hearing Impaired

State of Connecticut

File No: TRS-49-02

District of Columbia Public Service Commission

District of Columbia

File No: TRS-43-02

Idaho Public Service Commission

State of Idaho

File No: TRS-08-02

Indiana Telephone Relay Access

State of Indiana

File No: TRS-19-02

Alaska Public Utilities Commission

State of Alaska

File No: TRS-02-02

Arizona Council for Hearing Impaired

State of Arizona

File No: TRS-23-02

Colorado Public Utilities Commission

State of Colorado

File No: TRS-32-02

State of Delaware Public Service Commission

State of Delaware

File No: TRS-50-02

Florida Public Utilities Commission

State of Florida

File No: TRS-10-02

Illinois Commerce Commission

State of Illinois

File No: TRS-03-02

Iowa Utilities Board

State of Iowa

File No: TRS-52-02

Kentucky Public Service Commission

State of Kentucky

File No: TRS-53-02

Maine Public Utilities Commission

State of Maine

File No: TRS 37-02

Telecommunications Access Minnesota

State of Minnesota

File No: TRS-15-02

Missouri Public Utilities Commission

State of Missouri

File No: TRS-40-02

Nebraska Public Service Commission

State of Nebraska

File No: TRS-42-02

New Hampshire Public Service Commission

State of New Hampshire

File No: TRS-16-02

New York State Department of Public Service

State of New York

File No: TRS-13-02

Louisiana Administration Board

State of Louisiana

File No: TRS-33-02

Maryland Department of Budget and Management

State of Maryland

File No: TRS-55-02

Mississippi Public Service Commission

State of Mississippi

File No: TRS-56-02

Telecommunications Access Service

State of Montana

File No: TRS-25-02

Dept. of Employment, Training and Rehabilitation

State of Nevada

File No: TRS-14-02

Commission for the Deaf and Hard of Hearing

State of New Mexico

File No: TRS-30-02

Department of Health and Human Services

State of North Carolina

File No: TRS-12-02

North Dakota Information Services Division

State of North Dakota

File No: TRS-57-02

Oklahoma Telephone Association

State of Oklahoma

File No: TRS-58-02

Pennsylvania Public Utilities Commission

State of Pennsylvania

File No: TRS-20-02

Tennessee Regulatory Authority

State of Tennessee

File No: TRS-09-02

Division of Public Utilities

State of Utah

File No: TRS-04-02

Virginia Public Service Commission

State of Virginia

File No: TRS-06-02

West Virginia Public Service Commission

State of West Virginia

File No: TRS-37-02

Public Utilities Commission of Ohio

State of Ohio

File No: TRS-36-02

Oregon Public Utilities Commission

State of Oregon

File No: TRS-60-02

Department of Human Services

State of South Dakota

File No: TRS-03-02

Public Utility Commission of Texas

State of Texas

File No: TRS-44-02

Department of Public Service

State of Vermont

File No: TRS-27-02

Department of Social and Health Services

State of Washington

File No: TRS-01-02

Wisconsin Department of Administration

State of Wisconsin

File No: TRS-18-02

Wyoming Department of Administration

State of Wyoming

Federal Communications Commission.
June Taylor,
Chief, Consumer and Governmental Affairs Bureau.

[FR Doc. 03-13514 Filed 6-2-03; 8:45 am]

BILLING CODE 6712-01-P